DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in San Diego, CA; Tarrant County, TX; and Washington, DC. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before April 13, 2015.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information on each project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Mid-Coast Corridor Transit Project, San Diego, CA. Project sponsor: San Diego Association of Governments (SANDAG). Project description: SANDAG proposes to extend operation of the San Diego Trolley Blue Line from the Santa Fe Depot in Downtown San Diego north to the Old Town Transit Center (OTTC) approximately 3.5 miles via the existing Trolley tracks, and then north along new tracks for 10.9 miles to the University Town Centre Transit Center in University City, with nine new stations (four at-grade and five aerial) and parking facilities at five stations. The project includes upgrades to existing facilities between Santa Fe Depot and the OTTC, park-and-ride facilities, and the acquisition of new Trolley vehicles. Final agency actions: Section 4(f) de minimis impact determination; Section 106 finding of no adverse effect; project-level air quality conformity; and Record of Decision (ROD), dated October 15, 2014. Supporting documentation: Final Supplemental Environmental Impact Statement/Subsequent Environmental Impact Report, dated October 15, 2014.

2. Project name and location: TEX Rail Corridor Project, Tarrant County, TX. Project sponsor: Fort Worth Transportation Authority. Project description: The proposed project is 27.2 miles of commuter rail transit operating in an exclusive right-of-way with at-grade and aerial sections between downtown Fort Worth, west of the Texas and Pacific Station, and the Dallas/Fort Worth International Airport at the Terminal A/B Station. The project includes eight stations (two stations are existing and will be shared with Trinity Railway Express service in Fort Worth), parking facilities, new and improved yard and shop facilities, rail vehicles, fare collection equipment, communications and train control systems, and ancillary facilities for the distribution of electrical power and stormwater management. Final agency actions: Section 4(f) determination; a Section 106 Memorandum of Agreement; project-level air quality conformity; and a Record of Decision, dated September 29, 2014. Supporting documentation: Final Environmental Impact Statement, dated May 19, 2014.

3. Project name and location: Anacostia Streetcar Extension, Washington, DC. Project sponsor: District of Columbia Department of Transportation (DDOT). Project description: The DDOT is proposing to construct and operate a half-mile extension of the Anacostia Initial Line (AIL) streetcar line. The project, with operations in 2017, will extend the AIL streetcar service, primarily along the CSX right-of-way, from the Anacostia Metrorail Station to the foot of the 11th Street Bridge at the intersection of Martin Luther King, Jr. Avenue SE. and Good Hope Road SE. in the Anacostia neighborhood of Washington, DC. Final agency actions: No use determination of Section 4(f) resources; Section 106 finding of no adverse effect; project-level air quality conformity; and Finding of No Significant Impact (FONSI), dated October 10, 2014. Supporting documentation: Environmental Assessment, dated February 26, 2014.

Dated: November 5, 2014.
Lucy Garliauskas,
Associate Administrator Planning and Environment.

[FR Doc. 2014-26728 Filed 11-10-14; 8:45 am]

BILLING CODE P